DEPARTMENT OF TRANSPORTATION

Federal Highway Administration

Notice of Final Federal Agency Actions on Proposed Highway Project in Wisconsin

AGENCY: Federal Highway Administration (FHWA).

ACTION: Notice of limitation on claims for judicial review of actions by FHWA and other federal agencies.

SUMMARY: This notice announces actions taken by the FHWA and other Federal Agencies that are final within the meaning of 23 U.S.C. 139(l)(1). The actions relate to the Interstate 43 (I-43) Freeway Improvement Project in Milwaukee and Ozaukee Counties, Wisconsin. Those actions grant approvals for the project.

DATES: By this notice, the FHWA is advising the public of final agency actions subject to 23 U.S.C. 139(l)(1). Claims seeking judicial review of the Federal agency actions on the highway project will be barred unless the claim is filed on or before May 11, 2015. If the Federal law that authorizes judicial review of a claim provides a time period of less than 150 days for filing such claim, then that shorter time period still applies.

FOR FURTHER INFORMATION CONTACT: George Poirier, Division Administrator, FHWA, 525 Junction Road, Suite 8000, Madison, Wisconsin 53717; telephone: (608) 829-7500. The FHWA Wisconsin Division's normal office hours are 7 a.m. to 4 p.m. central time.

SUPPLEMENTARY INFORMATION: Notice is hereby given that FHWA and other Federal agencies have taken final agency actions subject to 23 U.S.C. 139(l)(1) by issuing approvals for the following highway project: I-43 Freeway Improvement Project from Silver Spring Drive to Wisconsin 60 (WIS 60) in Milwaukee and Ozaukee Counties, Wisconsin. The purpose of the project is to address emerging pavement and structural needs, safety issues, and design deficiencies while identifying methods to accommodate existing and projected future traffic volumes. The project also strives to minimize impacts to the natural, cultural and built environment to the extent feasible and practicable. The project will widen the existing I-43 four-lane divided highway to a six-lane divided highway for approximately 14 miles from Silver Spring Drive to WIS 60. The scope of the proposed action includes rebuilding the mainline roadway, bridges, and interchanges; replacing the existing partial interchange at County Line Road with a full-access interchange; constructing a new interchange at Highland Road; reconstructing local streets affected by the freeway reconstruction; and enhancing the aesthetic appearance of the reconstructed freeway.

The actions by the Federal agencies on this project, and the laws under which such actions were taken, are described in the combined Record of Decision (ROD) and Final Environmental Impacts Statement (FEIS) approved on November 25, 2014, and in other documents in the FHWA administrative record. The combined ROD and FEIS was prepared pursuant to the Moving Ahead for Progress in the 21st Century Act (MAP-21), Public Law 112-141, § 1319, 126 Stat. 405 (2012).

The combined ROD and FEIS, and other documents in the administrative record are available by contacting FHWA at the address provided above. The combined ROD and FEIS can be downloaded from the project Web site at http://www.dot.wisconsin.gov/projects/seregion/43/index.htm; or viewed at offices of local governments and transportation agencies in the project area; or at the following public libraries: Whitefish Bay Public Library (5420 N. Marlborough Dr., Whitefish Bay, WI), North Shore Public Library (6800 N. Port Washington Rd., Glendale, WI), Frank L. Weyenberg Library (11345 N. Cedarburg Rd., Mequon, WI), and U.S.S. Liberty Memorial Public Library (1620 11th Ave., Grafton, WI).

This notice applies to all Federal agency decisions as of the issuance date of this notice and all laws under which such actions were taken, including but not limited to:

1. General: National Environmental Policy Act (NEPA) [42 U.S.C. 4321-4351], Federal-Aid Highway Act [23 U.S.C. 109, 23 U.S.C. 128, and 23 U.S.C. 139].

2. Air: Clean Air Act [42 U.S.C. 7401- 7671(q) and 23 U.S.C. 109(j)].

3. Land: Section 4(f) of the Department of Transportation Act of 1966 [23 U.S.C. 138 and 49 U.S.C. 303].

4. Wildlife: Endangered Species Act [16 U.S.C. 1531-1544 and Section 1536], Fish and Wildlife Coordination Act [16 U.S.C. 661-667(d)], Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)], Uniform Relocation Assistance and Real Property Acquisition Act of 1970 [42 U.S.C. 4601 et seq. as amended by the Uniform Relocation Act Amendments of 1987 [Pub. L. 100-17].

7. Wetlands and Water Resources: Clean Water Act (Section 404, Section 401, and Section 319) [33 U.S.C. 1251- 1376].

8. Hazardous Materials: Comprehensive Environmental Response, Compensation, and Liability Act [42 U.S.C. 9601-9675].

9. Executive Orders: E.O. 11990 Protection of Wetlands, E.O. 11988 Floodplain Management, E.O. 12898 Federal Actions to Address Environmental Justice in Minority Populations and Low Income Populations, E.O. 13175 Consultation and Coordination with Indian Tribal Governments, E.O. 11514 Protection and Enhancement of Environmental Quality, E.O. 13112 Invasive Species.

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act (MAP-21), Public Law 112-141, § 1308, 126 Stat. 405 (2012).

Issued on: December 2, 2014.
George R. Poirier,
Division Administrator, Madison, Wisconsin.

[FR Doc. 2014-28922 Filed 12-11-14; 8:45 am]

BILLING CODE 4910-RY-P